DEPARTMENT OF TRANSPORTATION

Federal Aviation Administration

14 CFR Part 39

[Docket No. FAA-2007-29316; Directorate Identifier 2007-CE-078-AD]

RIN 2120-AA64

Airworthiness Directives; Eclipse Aviation Corporation Model EA500 Airplanes

AGENCY: Federal Aviation Administration (FAA), Department of Transportation (DOT).

ACTION: Notice of proposed rulemaking (NPRM).

SUMMARY: We propose to supersede Airworthiness Directive (AD) 2007-13-11, which applies to all Eclipse Aviation Corporation (Eclipse) Model EA500 airplanes. AD 2007-13-11 was prompted by reports of loss of primary airspeed indication due to freezing condensation within the pitot system. AD 2007-13-11 requires operational limitations consisting of operation only in day visual flight rules (VFR), allowing only a VFR flight plan, and maintaining operation with two pilots. Since we issued AD 2007-13-11, Eclipse has developed a design modification to the pitot/angle-of-attack (AOA) system to eliminate the possibility of freezing condensation within the pitot/AOA system. Eclipse is incorporating this modification during production on Model EA500 airplanes starting with serial number (S/N) 000065. Consequently, this proposed AD would limit the applicability to airplanes under S/N 000065 and require incorporating the modification. This proposed AD would also retain the operating limitations in AD 2007-13-11 until the modification is incorporated. We are proposing this AD to prevent long-term reliance on special operating limitations when a design change exists that would eliminate the need for the operating limitations. Incorporating the proposed modification would prevent loss of air pressure in the pitot system, which could cause erroneous AOA and airspeed information with consequent loss of control.

DATES: We must receive comments on this proposed AD by December 18, 2007.

ADDRESSES: Use one of the following addresses to comment on this proposed AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Eclipse Aviation Corporation, 2503 Clark Carr Loop, SE., Albuquerque, NM 87105, fax: 505-241-8802; e-mail: customercare@eclipseaviation.com.

FOR FURTHER INFORMATION CONTACT: Al Wilson, Flight Test Pilot, Airplane Certification Office, FAA, 2601 Meacham Blvd., Fort Worth, Texas 76137-4298; telephone: (817) 222-5146; fax: (817) 222-5960.

SUPPLEMENTARY INFORMATION:

Comments Invited

We invite you to send any written relevant data, views, or arguments regarding this proposed AD. Send your comments to an address listed under the ADDRESSES section. Include the docket number, “FAA-2007-29316; Directorate Identifier 2007-CE-078-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact we receive concerning this proposed AD.

Discussion

Reports of three instances of loss of primary airspeed indication due to freezing condensation within the pitot system on Eclipse Model EA500 airplanes caused us to issue AD 2007-13-11, Amendment 39-15115 (72 FR 34363, June 22, 2007). The loss of air pressure in the pitot system could cause the stall warning to become unreliable and the stick pusher, overspeed warning, and autopilot to not function. The concern is heightened by the aerodynamic characteristics of the Eclipse Model EA500 airplane, which relies on the stall warning and the stick pusher to alert the pilot prior to the loss of aircraft control. The standby airspeed is reliable and not affected by this failure mode.

AD 2007-13-11 currently requires the following on all Eclipse Model EA500 airplanes:

• Incorporating information into the Limitations section of the airplane flight manual (AFM) requiring operation only in day VFR;

• Allowing only a VFR flight plan; and

• Maintaining operation with two pilots.

AD 2007-13-11 was considered an interim action until Eclipse could develop a design modification to the pitot/AOA system that will eliminate the possibility of freezing condensation within the pitot/AOA system.

Eclipse has now developed this design modification and it is being incorporated at the factory during production on Model EA500 airplanes starting with S/N 000065.

We have determined that continued reliance on operating limitations carries an unnecessary safety risk when there is a known design change to eliminate the need for the operating limitations. Incorporating the proposed modification would prevent loss of air pressure in the pitot system, which could cause erroneous AOA and airspeed information with consequent loss of control.

Relevant Service Information

We have reviewed Eclipse Aviation Alert Service Bulletin Number SB 500-34-005, Rev B, issued July 10, 2007.

The service information describes procedures for upgrading the pitot/AOA system and modifying the related tubing assembly, which terminates the operating limitations required in AD 2007-13-11 when incorporated.

FAA's Determination and Requirements of the Proposed AD

We are proposing this AD because we evaluated all information and determined the unsafe condition described previously is likely to exist or develop on other products of the same type design. This proposed AD would supersede AD 2007-13-11 with a new AD that would change the Applicability section and would require you to incorporate the design modification of the pitot/AOA system. This proposed AD would also retain the operating limitations in AD 2007-13-11 until the modification is incorporated. This proposed AD would require you to use the service information described previously to perform these actions.

Costs of Compliance

We estimate that this proposed AD would affect 64 airplanes in the U.S. registry.

We estimate the following costs to do the proposed modification:

Labor cost | Parts cost | Total cost per airplane | Total cost on U.S. operators
30 work-hours × $80 per hour = $2,400 | $7,000 | $9,400 | $601,600

Warranty credit will be given to the extent specified in the service bulletin.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2007-13-11, Amendment 39-15115 (72 FR 34363, June 22, 2007), and adding the following new AD:

Eclipse Aviation Corporation: Docket No. FAA-2007-29316; Directorate Identifier 2007-CE-078-AD.

Comments Due Date

(a) We must receive comments on this airworthiness directive (AD) action by December 18, 2007.

Affected ADs

(b) This AD supersedes AD 2007-13-11, Amendment 39-15115.

Applicability

(c) This AD applies to Model EA500 airplanes, serial numbers 000001 through 000064, that are certificated in any category.

Unsafe Condition

(d) Reports of three instances of loss of primary airspeed indication due to freezing condensation within the pitot system prompted us to issue AD 2007-13-11. This AD results from Eclipse developing a design modification to the pitot/angle-of-attack (AOA) system that eliminates the possibility of freezing condensation within the pitot/AOA system. Eclipse is incorporating this modification during production on Model EA500 airplanes starting with serial number 000065. We are issuing this AD to prevent long-term reliance on special operating limitations when a design change exists that would eliminate the need for the operating limitations. Incorporating the modification would prevent loss of air pressure in the pitot system, which could cause erroneous AOA and airspeed information with consequent loss of control.

Compliance

(e) To address this problem, you must do the following, unless already done:

Actions | Compliance | Procedures
(1) Incorporate the following into the Limitations section of the airplane flight manual (AFM): (i) “Operate Only in Day Visual Flight Rules (VFR);” (ii) “File Only a VFR Flight Plan;” and (iii) “Operate with Two Pilots at All Times.” | Before further flight after June 27, 2007 (the effective date of AD 2007-13-11). | The owner/operator holding at least a private pilot certificate as authorized by section 43.7 of the Federal Aviation Regulations (14 CFR 43.7) may insert the information into the AFM as specified in paragraph (e)(1) of this AD. You may insert a copy of this AD into the Limitations section of the AFM to comply with this action. Make an entry into the aircraft records showing compliance with this portion of the AD in accordance with section 43.9 of the Federal Aviation Regulations (14 CFR 43.9).
(2) Incorporate the design modification to the pitot/AOA system. When incorporated, this design modification terminates the Airplane Flight Manual (AFM) operational limitations required in paragraph (e)(1) of this AD. | Within the next 60 days after the effective date of this AD. | Following Eclipse Aviation Alert Service Bulletin Number SB 500-34-005, Rev B, issued July 10, 2007.

Alternative Methods of Compliance (AMOCs)

(f) The Manager, Fort Worth Airplane Certification Office, FAA, has the authority to approve AMOCs for this AD, if requested using the procedures found in 14 CFR 39.19. Send information to ATTN: Al Wilson, Flight Test Pilot, 2601 Meacham Blvd., Fort Worth, Texas 76137-4298; telephone: (817) 222-5146; fax: (817) 222-5960. Before using any approved AMOC on any airplane to which the AMOC applies, notify your appropriate principal inspector (PI) in the FAA Flight Standards District Office (FSDO), or lacking a PI, your local FSDO.

(g) AMOCs approved for AD 2007-13-11 are approved for this AD.

Related Information

(h) To get copies of the service information referenced in this AD, contact Eclipse Aviation Corporation, 2503 Clark Carr Loop, SE, Albuquerque, NM 87105, fax: 505-241-8802; e-mail: customercare@eclipseaviation.com. To view the AD docket, go to U.S. Department of Transportation, Docket Operations, M-30, West Building Ground Floor, Room W12-140, 1200 New Jersey Avenue, SE., Washington, DC 20590, or on the Internet at http://www.regulations.gov. The docket number is Docket No.FAA-2007-29316; Directorate Identifier 2007-CE-078-AD.

Issued in Kansas City, Missouri, on October 15, 2007.
David R. Showers,
Acting Manager, Small Airplane Directorate, Aircraft Certification Service.

[FR Doc. E7-20630 Filed 10-18-07; 8:45 am]

BILLING CODE 4910-13-P